SECURITIES AND EXCHANGE COMMISSION

[File No. 500-1]

RDM Sports Group, Inc., et al.; Order of Suspension of Trading

July 20, 2009.

Order of Suspension of Trading

In the Matter of RDM Sports Group, Inc., Real Del Monte Mining Corp., Recoton Corp., Red Hot Concepts, Inc., RedHand International, Inc. (n/k/a African Diamond Co., Inc. or Coal Corp.), Redlaw Industries, Inc., Republic Resources, Inc., Reward Enterprises, Inc., Rhino Enterprises Group, Inc. (n/k/a Physicians Adult Daycare, Inc.), Ridgeview, Inc., Riverside Group, Inc., and Rocky Mount Undergarment Co., Inc.; Respondents.

It appears to the Securities and Exchange Commission that there is a lack of current and accurate information concerning the securities of RDM Sports Group, Inc. because it has not filed any periodic reports since the period ended June 29, 1997.

It appears to the Securities and Exchange Commission that there is a lack of current and accurate information concerning the securities of Real Del Monte Mining Corp. because it has not filed any periodic reports since the period ended December 31, 1997.

It appears to the Securities and Exchange Commission that there is a lack of current and accurate information concerning the securities of Recoton Corp. because it has not filed any periodic reports since the period ended September 30, 2002.

It appears to the Securities and Exchange Commission that there is a lack of current and accurate information concerning the securities of Red Hot Concepts, Inc. because it has not filed any periodic reports since the period ended December 30, 2001.

It appears to the Securities and Exchange Commission that there is a lack of current and accurate information concerning the securities of RedHand International, Inc. (n/k/a African Diamond Co., Inc. or Coal Corp.) because it has not filed any periodic reports since the period ended September 30, 2005.

It appears to the Securities and Exchange Commission that there is a lack of current and accurate information concerning the securities of Redlaw Industries, Inc. because it has not filed any periodic reports since the period ended December 31, 1999.

It appears to the Securities and Exchange Commission that there is a lack of current and accurate information concerning the securities of Republic Resources, Inc. because it has not filed any periodic reports since the period ended September 30, 2003.

It appears to the Securities and Exchange Commission that there is a lack of current and accurate information concerning the securities of Reward Enterprises, Inc. because it has not filed any periodic reports since the period ended March 31, 2005.

It appears to the Securities and Exchange Commission that there is a lack of current and accurate information concerning the securities of Rhino Enterprises Group, Inc. (n/k/a Physicians Adult Daycare, Inc.) because it has not filed any periodic reports since the period ended September 30, 2001.

It appears to the Securities and Exchange Commission that there is a lack of current and accurate information concerning the securities of Ridgeview, Inc. because it has not filed any periodic reports since the period ended September 30, 1999.

It appears to the Securities and Exchange Commission that there is a lack of current and accurate information concerning the securities of Riverside Group, Inc. because it has not filed any periodic reports since the period ended September 30, 2002.

It appears to the Securities and Exchange Commission that there is a lack of current and accurate information concerning the securities of Rocky Mount Undergarment Co., Inc. because it has not filed any periodic reports since the period ended October 1, 1995.

The Commission is of the opinion that the public interest and the protection of investors require a suspension of trading in the securities of the above-listed companies.

Therefore, it is ordered, pursuant to Section 12(k) of the Securities Exchange Act of 1934, that trading in the above-listed companies is suspended for the period from 9:30 a.m. EDT on July 20, 2009, through 11:59 p.m. EDT on July 31, 2009.

By the Commission.
Jill M. Peterson,
Assistant Secretary.

[FR Doc. E9-17517 Filed 7-21-09; 11:15 am]

BILLING CODE 8010-01-P